DEPARTMENT OF HOUSING AND URBAN DEVELOPMENT

[Docket No. FR-4820-N-34]

Notice of Proposed Information Collection: Comment Request; Late Request for Endorsement Procedures

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: October 27, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Vance T. Morris, Director, Office of Single Family Program Development, Department of Housing and Urban Development, 451 7th Street, SW., Washington, DC 20410, telephone (202) 708-2121 (this is not a toll free number) for copies of the proposed forms and other available information.

SUPPLEMENTARY INFORMATION: The Department is submitting the proposed information collection to OMB for review, as required by the Paperwork Reduction Act of 1995 (44 U.S.C. chapter 35, as amended).

This notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submissive of responses.

This notice also lists the following information:

Title of Proposal: Late Request for Endorsement Procedures.

OMB Control Number, if applicable: 2502—New.

Description of the need for the information and proposed use: The information collection establishes the criteria for defining late requests for endorsement for initial submissions and reconsiderations. When submitting a late request for endorsement, a lender must certify that the borrower's mortgage payments are current and made within the month due, all escrows are current, and no payments were made by the lender to affect an acceptable payment history. The lender will also submit a copy of the payment history or ledger as additional documentation.

Agency form numbers, if applicable: None.

Estimation of the total numbers of hours needed to prepare the information collection including number of respondents, frequency of response, and hours of response: The estimated number of respondents is 12,000 generating approximately 300,000 annual responses; frequency of response is on occasion; the estimated time needed to prepare the response varies from 6 minutes to 30 minutes; and the estimated annual burden hours requested is 120,000.

Status of the proposed information collection: New collection.

Authority: The Paperwork Reduction Act of 1995, 44 U.S.C. chapter 35, as amended.

Dated: August 20, 2003.
John C. Weicher,
Assistant Secretary for Housing-Federal Housing Commissioner.

[FR Doc. 03-21928 Filed 8-26-03; 8:45 am]

BILLING CODE 4210-27-M